FEDERAL ELECTION COMMISSION

Sunshine Act Notices

Date and Time: Tuesday, December 2, 2003 at 10 a.m.

Place: 999 E Street, NW., Washington, DC.

Status: This meeting will be closed to the public.

Items To Be Discussed

Compliance matters pursuant to 2 U.S.C. 437g.

Audits conducted pursuant to 2 U.S.C. 437g, 438(b), and Title 26, U.S.C.

Matters concerning participation in civil actions or proceedings or arbitration.

Internal personnel rules and procedures or matters affecting a particular employee.

Date and Time: Thursday, December 4, 2003 at 10 a.m.

Place: 999 E Street, NW., Washington, DC (Ninth Floor).

Status: This meeting will be open to the public.

Items To Be Discussed.

Correction and Approval of Minutes.

Draft Advisory Opinion 2203-31: Senator Mark Dayton by counsel, Marc E. Elias and Brian T. Svoboda.

Routine Administrative Matters.

FOR FURTHER INFORMATION CONTACT: Mr. Ron Harris, Press Officer, Telephone: (202) 694-1220.

Mary W. Dove,
Secretary of the Commission.

[FR Doc. 03-29804 Filed 11-25-03; 11:13 am]

BILLING CODE 6715-01-M